RAILROAD RETIREMENT BOARD

Privacy Act of 1974; System of Records

AGENCY: United States Railroad Retirement Board (RRB).

ACTION: Notice of a modified system of records.

SUMMARY: RRB-22, Railroad Retirement, Survivor, and Pensioner Benefit System is used to manage records related to railroad retirement, survivor, and pensioner benefits.

DATES: This system of records notice (SORN) will become effective upon its publication, except for the routine uses that have been modified as part of this modification, which will be effective at the end of a public comment period of 30 days from the date of publication. Please submit written comments on or before January 5, 2026.

ADDRESSES: Interested parties may comment on this publication by writing to Ms. Stephanie Hillyard, Secretary to the Board, U.S. Railroad Retirement Board, 844 North Rush Street, Chicago, Illinois 60611-1275.

FOR FURTHER INFORMATION CONTACT: Mr. Chad Peek, Chief Privacy Officer, U.S. Railroad Retirement Board, 844 North Rush Street, Chicago, Illinois 60611-1275, telephone 312-751-3389 or email at chad.peek@rrb.gov.

SUPPLEMENTARY INFORMATION: In accordance with the Privacy Act of 1974, 5 U.S.C. 552a, and the Office of Management and Budget (OMB), Circular No. A-108, the U.S. Railroad Retirement Board (RRB) has completed a review of its Privacy Act systems of records and proposes to modify a current RRB system of records titled RRB-22, Railroad Retirement, Survivor, and Pensioner Benefit System. The proposed modification to the system of records pursuant to 5 U.S.C. 552a(b)(3) adds the following categories of users to its Routine Uses section: Congressional representatives, contractors working for the federal government, law enforcement, other federal agencies and entities pertaining to breach notification, National Archives, and attorney representatives.

Dated: December 3, 2025.
By Authority of the Board.
Stephanie Hillyard,
Secretary to the Board.

SYSTEM NAME AND NUMBER:

RRB-22, Railroad Retirement, Survivor, and Pensioner Benefit System.

SECURITY CLASSIFICATION:

Unclassified.

SYSTEM LOCATION:

U.S. Railroad Retirement Board, 844 North Rush Street, Chicago, Illinois 60611-1275.

SYSTEM MANAGER(S):

Office of Programs—Director of Policy and Systems, U.S. Railroad Retirement Board, 844 North Rush Street, Chicago, Illinois 60611-1275.

AUTHORITY FOR MAINTENANCE OF THE SYSTEM:

Section 7(b)(6) of the Railroad Retirement Act of 1974 (U.S.C. 231f(b)(6)).

PURPOSE(S) OF THE SYSTEM:

Records in this system of records are maintained to administer the benefit provisions of the Railroad Retirement Act, sections of the Internal Revenue Code related to the taxation of railroad retirement benefits, and Title XVIII of the Social Security Act as it pertains to Medicare coverage for railroad retirement beneficiaries.

CATEGORIES OF INDIVIDUALS COVERED BY THE SYSTEM:

Applicants for retirement and survivor benefits, (spouses, divorced spouses, widows, surviving divorced spouses, children, students, parents, grandchildren), and individuals who filed for lump-sum death benefits and/or residual payments.

CATEGORIES OF RECORDS IN THE SYSTEM:

Information pertaining to the payment or denial of an individual's claim for benefits under the Railroad Retirement Act: Name, address, Social Security number, claim number, proofs of age, marriage, relationship, death, military service, creditable earnings and service months (including military service), entitlement to benefits under the Social Security Act, programs administered by the Veterans Benefits Administration, or other benefit systems, rates, effective dates, medical reports, correspondence and telephone inquiries to and about the beneficiary, suspension and termination dates, health insurance effective date, option, premium rate and deduction, direct deposit data, employer pension information, citizenship status and legal residency status (for annuitants living outside the United States), electronic mail address, and tax withholding information (instructions of annuitants regarding number of tax withholding exemptions claimed and additional amounts to be withheld, as well as actual amounts withheld for tax purposes).

RECORD SOURCE CATEGORIES:

Individual applicants or their representatives, railroad employers, other employers, physicians, labor organizations, federal, state and local government agencies, attorneys, funeral homes, congressmen, schools, foreign government.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside RRB as a routine use pursuant to 5 U.S.C. 552a(b)(3) as follows:

Disclosure may be made to a congressional office from the record of an individual in response to an inquiry from the congressional office made at the request of that individual if that individual would not be denied access to the information.

Disclosure may be made to contractors, grantees, experts, consultants, students, and others performing or working on a contract, service, grant, cooperative agreement, or other assignment for RRB, to the extent necessary to accomplish an RRB function related to this system of records.

Disclosure may be made to the appropriate agency, whether federal, state, local, or foreign, charged with the responsibility of investigating, enforcing, or prosecuting a violation or potential violation of law, whether civil, criminal or regulatory in nature, and whether arising by general statute or particular program statute, or by regulation, rule or order issued pursuant thereto, or charged with enforcing or implementing the statute, rule, regulation, or order issued pursuant thereto, if the disclosure would be to an agency engaged in functions related to the Railroad Retirement Act or the Railroad Unemployment Insurance Act, or if disclosure would be clearly in the furtherance of the interest of the subject individual.

To another federal agency or federal entity, when the U.S. Railroad Retirement Board determines that information from this system of records is reasonably necessary to assist the recipient agency or entity in (1) responding to a suspected or confirmed breach or (2) preventing, minimizing, or remedying the risk of harm to individuals, the recipient agency or entity (including its information systems, programs, and operations), the federal government, or national security, resulting from a suspected or confirmed breach.

To appropriate agencies, entities, and persons when (1) the U.S. Railroad Retirement Board suspects or has confirmed that there has been a breach of the system of records; (2) the U.S. Railroad Retirement Board has determined that as a result of the suspected or confirmed breach there is a risk of harm to individuals, the U.S. Railroad Retirement Board (including its information systems, programs, and operations), the federal government, or national security; and (3) the disclosure made to such agencies, entities, and persons is reasonably necessary to assist in connection with the U.S. Railroad Retirement Board's efforts to respond to the suspected or confirmed breach or to prevent, minimize, or remedy such harm.

Disclosure may be made to the National Archives and Records Administration or other federal government agencies for records management inspections being conducted under the authority of 44 U.S.C. 2904 and 2906.

Disclosure of non-medical information in this system of records may be made to the attorney representing such individuals upon receipt of a written letter or declaration stating the fact of representation, if that individual would not be denied access to the information. Medical information may be released to an attorney when such records are requested for the purpose of contesting a determination either administratively or judicially.

Beneficiary identifying information may be disclosed to third party contacts to determine if the inability of the beneficiary or potential beneficiary to understand or use benefits exists, and to determine the suitability of a proposed representative payee.

In the event the Board has decided to designate a person to be the representative payee of an incompetent beneficiary, disclosure of information concerning the benefit amount and other similar information may be made to the representative payee from the individual record.

Entitlement and benefit rates relevant and necessary may be released to primary beneficiaries regarding secondary beneficiaries (or vice versa) when the addition of such beneficiary affects either entitlement or benefit payment.

Identifying information such as full name, address, date of birth, Social Security number, employee identification number, and date last worked, may be released to any last employer to verify entitlement for benefits under the Railroad Retirement Act.

Beneficiary identifying information, address, check rates, number and date may be released to the Department of the Treasury to control for reclamation and return of outstanding benefit payments, to issue benefit payments, act on report of non-receipt, to ensure delivery of payments to the correct address of the beneficiary or representative payee or to the proper financial organization, and to investigate alleged forgery, theft or unlawful negotiation of railroad retirement benefit checks or improper diversion of payments directed to a financial organization.

Beneficiary identifying information, address, check rate, date, number and other supporting evidence may be released to the U.S. Postal Service for investigation of alleged forgery or theft of railroad retirement or Social Security benefit checks.

Beneficiary identifying information, entitlement data, medical evidence and related evaluatory data and benefit rate may be released to the Social Security Administration and the Centers for Medicare & Medicaid Services to correlate actions with the administration of Title II and Title XVIII of the Social Security Act, as amended.

Beneficiary identifying information, including Social Security number, and supplemental annuity amounts may be released to the Internal Revenue Service, for tax purposes.

Beneficiary identifying information, entitlement, benefit rates, medical evidence and related evaluatory data, and months paid may be furnished to the Veterans Benefits Administration for the purpose of assisting that agency in determining eligibility for benefits or verifying continued entitlement to and the correct amount of benefits payable under programs which it administers.

Beneficiary identifying information, entitlement data and benefit rates relevant and necessary may be released to the Department of State and embassy and consular officials, the American Institute in Taiwan, and to the Veterans Benefits Administration Regional Office, Philippines, to aid in the development of applications, supporting evidence, and the continued eligibility of beneficiaries and potential beneficiaries living abroad.

Beneficiary identifying information, entitlement, benefit rates and months paid may be released to the Social Security Administration (Bureau of Supplemental Security Income), the Centers for Medicare & Medicaid Services, to federal, state and local welfare or public aid agencies to assist them in processing applications for benefits under their respective programs.

The last addresses and employer information may be released to the Department of Health and Human Services in conjunction with the Parent Locator Service.

Beneficiary identifying information, entitlement, rate and other pertinent data may be released to the Department of Labor in conjunction with payment of benefits under the Federal Coal Mine and Safety Act.

Medical evidence may be released to Board-appointed medical examiners to carry out their functions.

Information obtained in the administration of Title XVIII (Medicare) which may indicate unethical or unprofessional conduct of a physician or practitioner providing services to beneficiaries may be released to Professional Standards Review Organizations and State Licensing Boards.

Information necessary to study the relationship between benefits paid by the U.S. Railroad Retirement Board and civil service annuities may be released to the Office of Personnel Management.

Pursuant to a request from an employer covered by the Railroad Retirement Act or the Railroad Unemployment Insurance Act, or from an organization under contract to an employer or employers, information regarding the Board's payment of retirement benefits, the methods by which such benefits are calculated, entitlement data and present address may be released to the requesting employer or the organization under contract to an employer or employers for the purposes of determining entitlement to and rates of private supplemental pension, sickness or unemployment benefits and to calculate estimated benefits due.

Information from the record of the individual concerning their benefit or anticipated benefit and concerning the method of calculating that benefit may be disclosed to an official of a labor organization of which the individual is a member, if the disclosure is made at the request of, and on behalf of, the individual.

Records deemed relevant and necessary may be disclosed in a court proceeding relating to any claims for benefits by the beneficiary under the Railroad Retirement Act and may be disclosed during an administrative appeal to individuals who need the records to prosecute or decide the appeal or to individuals who are requested to provide information relative to an issue involved in the appeal.

The amount of a residual lump-sum payment and the identity of the payee may be released to the Internal Revenue Service for tax audit purposes.

The amount of any death benefit or annuities accrued but unpaid at death and the identity of such payee may be released to the appropriate state taxing authorities for tax assessment and auditing purposes.

Beneficiary identifying information, including but not limited to name, address, Social Security number, payroll number and occupation, the fact of entitlement and benefit rate may be released to the Pension Benefit Guaranty Corporation to enable that agency to determine and pay supplemental pensions to qualified railroad retirees.

Medical records may be disclosed to vocational consultants in administrative proceedings.

Date employee filed application for annuity to the last employer under the Railroad Retirement Act for use in determining entitlement to continued major medical benefits under insurance programs negotiated with labor organizations.

Information regarding the determination and recovery of an overpayment made to an individual may be released to any other individual from whom any portion of the overpayment is being recovered.

Certain identifying information about annuitants, such as name, Social Security number, claim number, and date of birth, as well as address, year and month last worked for a railroad, last railroad occupation, application filing date, annuity beginning date, identity of last railroad employer, total months of railroad service, sex, disability onset date, disability freeze onset date, and cause and effective date of annuity termination may be furnished to insurance companies for administering group life and medical insurance plans negotiated between certain participating railroad employers and railway labor organizations.

For payments made after December 31, 1983, beneficiary identifying information, address, amounts of benefits paid and repaid, beneficiary withholding instructions, and amounts withheld by the RRB for tax purposes may be furnished to the Internal Revenue Service for tax administration purposes.

Last address and beneficiary identifying information may be furnished to railroad employers for the purpose of mailing railroad passes to retired employees and their families.

Entitlement data and benefits rates may be released to any court, state agency, or interested party, or to the representative of such court, state agency, or interested party, in connection with contemplated or actual legal or administrative proceedings concerning domestic relations and support matters.

Identifying information about annuitants and applicants may be furnished to agencies and/or companies from which such annuitants and applicants are receiving or may receive worker's compensation, public pension, or public disability benefits to verify the amount by which Railroad Retirement Act benefits must be reduced, where applicable.

Disability annuitant identifying information may be furnished to state employment agencies for the purpose of determining whether such annuitants were employed during times they receive disability benefits.

Identifying information about Medicare-entitled beneficiaries who may be working may be disclosed to the Centers for Medicare & Medicaid Services for the purposes of determining whether Medicare should be the secondary payer of benefits for such individuals.

Disclosure of information in claim folders is authorized for bonafide researchers doing epidemiological/mortality studies approved by the RRB who agree to record only information pertaining to deceased beneficiaries.

Identifying information for beneficiaries, such as name, SSN, and date of birth, may be furnished to the Social Security Administration and to any State for the purpose of enabling the Social Security Administration or State through a computer or manual matching program to assist the RRB in identifying female beneficiaries who remarried but who may not have notified the RRB of their remarriage.

An employee's date last worked, annuity filing date, annuity beginning date, and the month and year of death may be furnished to AMTRAK when such information is needed by AMTRAK to decide whether to award a travel pass to either the employee or the employee's widow.

The employee's Social Security number may be disclosed to an individual eligible for railroad retirement benefits on the employee's earnings record when the employee's Social Security number would be contained in the railroad retirement claim number. Records may be disclosed to the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

POLICIES AND PRACTICES FOR STORAGE OF RECORDS:

Paper records will be stored in file cabinets or at approved National Archives and Records Administration records centers. Electronic records are maintained on computer servers, computer hard drives, electronic databases, email, and FedRAMP approved cloud information systems.

POLICIES AND PRACTICES FOR RETRIEVAL OF RECORDS:

Information from the system will be retrievable by Social Security number, claim number and name.

POLICIES AND PRACTICES FOR RETENTION AND DISPOSAL OF RECORDS:

Paper: Destroyed by shredding in accordance with NIST standards, no sooner than 7 years and no later than 10 years after the close of the benefit year.

Electronic media: Storage drives and IBM zCloud storage: Continually updated and permanently retained. When storage drives and IBM zCloud storage or other electronic media are no longer serviceable, they are sanitized in accordance with NIST guidelines.

ADMINISTRATIVE, TECHNICAL, AND PHYSICAL SAFEGUARDS:

Paper: Maintained in areas not accessible to the public in locking filing cabinets. Access is limited to authorized RRB employees. Offices are locked during non-business hours. The building has 24-hour on-site security officers, closed circuit television monitoring and intrusion detection systems.

Electronic media: Computer and computer storage rooms are restricted to authorized personnel; on-line query safeguards include a lock/unlock password system, a terminal oriented transaction matrix, role-based access controls and audit trail. For electronic records, system securities are established in accordance with the National Institute of Standards and Technology (NIST) guidelines, including network monitoring, defenses in-depth, incident response and forensics. In addition to the on-line query safeguards, they include encryption of all data transmitted and exclusive use of leased telephone lines.

RECORD ACCESS PROCEDURES:

Under 5 U.S.C. 552a (Privacy Act of 1974), individuals have the right to access and contest records maintained about them. To access or amend your records, submit a written request to the Railroad Retirement Board (RRB) with:

1. Your identifying information

2. A description of the record you wish to access

The RRB may request proof of identity. To correct a record, specify the change and provide justification. If denied, you can submit a statement of disagreement to be included with the record.

CONTESTING RECORD PROCEDURES:

For additional instructions, see the Record Access Procedures and Notification Procedures sections.

NOTIFICATION PROCEDURES:

Requests for information regarding an individual's record should be in writing addressed to the System Manager identified above, including the full name, Social Security number and claim number of the individual. Before information about any record will be released, the System Manager may require the individual to provide proof of identity or require the requester to furnish an authorization from the individual to permit release of information.

EXEMPTIONS PROMULGATED FOR THE SYSTEM:

None.

HISTORY:

System of Records Notice revision from previous May 15, 2015 Federal Register notice 80 FR 28018.

[FR Doc. 2025-22048 Filed 12-4-25; 8:45 am]

BILLING CODE 7905-01-P